SMALL BUSINESS ADMINISTRATION

[Disaster Declaration # 11724 and # 11725]

Georgia Disaster Number GA-00023

AGENCY: U.S. Small Business Administration.

ACTION: Amendment 2.

SUMMARY: This is an amendment of the Presidential declaration of a major disaster for Public Assistance Only for the State of Georgia (FEMA-1833-DR), dated 04/23/2009.

Incident: Severe Storms, Flooding, Tornadoes and Straight-line Winds.

Incident Period: 03/26/2009 through 04/13/2009.

DATES: Effective Date: 04/13/2009.

Physical Loan Application Deadline Date: 06/22/2009.

Economic Injury (EIDL) Loan Application Deadline Date: 01/23/2010.

ADDRESSES: Submit completed loan applications to: U.S. Small Business Administration, Processing and Disbursement Center, 14925 Kingsport Road, Fort Worth , TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the State of Georgia, dated 04/23/2009, is hereby amended to establish the incident period for this disaster as beginning 03/26/2009 and continuing through 04/13/2009.

All other information in the original declaration remains unchanged.

(Catalog of Federal Domestic Assistance Numbers 59002 and 59008)

James E. Rivera,
Acting Associate Administrator for Disaster Assistance.

[FR Doc. E9-11292 Filed 5-13-09; 8:45 am]

BILLING CODE 8025-01-P